DEPARTMENT OF THE INTERIOR

Fish and Wildlife Service

Draft Comprehensive Conservation Plan and Environmental Assessment for Mingo, Pilot Knob, and Ozark Cavefish National Wildlife Refuges (NWRs), Wayne and Stoddard Counties, MO

AGENCY: Fish and Wildlife Service, Interior.

ACTION: Notice of availability.

SUMMARY: The U.S. Fish and Wildlife Service announces that the Draft Comprehensive Conservation Plan (CCP) and Environmental Assessment (EA) is available for Mingo, Pilot Knob, and Ozark Cavefish NWRs, Missouri.

The CCP was prepared pursuant to the National Wildlife Refuge System Administration Act of 1966, as amended by the National Wildlife Refuge System Improvement Act of 1997, and the National Environmental Policy Act of 1969. Goals and objectives in the CCP describe how the agency intends to manage the refuge over the next 15 years.

DATES: Comments on the Draft CCP/EA must be received on or before July 10, 2006.

ADDRESSES: Copies of the Draft CCP are available on compact disk or hard copy; you may obtain a copy by writing to: U.S. Fish and Wildlife Service, Division of Conservation Planning, Bishop Henry Whipple Federal Building, 1 Federal Drive, Fort Snelling, Minnesota 55111 or you may access and download a copy via the planning Web site at http://www.fws.gov/midwest/planning/mingo/index.html.

All comments should be addressed to Mingo National Wildlife Refuge, Attention: CCP Comment, 24279 State Highway 51, Puxico, MO 63960, or direct e-mail to r3planning@fws.gov. Comments may also be submitted through the Service's regional Web site at http://www.fws.gov/midwest/planning/.

FOR FURTHER INFORMATION CONTACT: Kathleen Burchett at (573) 222-3589.

SUPPLEMENTARY INFORMATION: Established in 1944 under authority of the Migratory Bird Treaty Act, the 21,592-acre Mingo NWR serves as a resting and wintering area for migratory waterfowl. A shallow basin, the Refuge lies in an abandoned channel of the Mississippi River bordered on the west by the Ozark Plateau and on the east by Crowley's Ridge. The Refuge contains approximately 15,000 acres of bottomland hardwood forest, 5,000 acres of marsh and water, 1,100 acres of cropland and moist soil units, and nearly 500 acres of grassy openings. During fall and spring migration, the Refuge wetlands support thousands of waterfowl.

The EA evaluates four different approaches, or alternatives, to the future management of Mingo NWR, and two alternatives for Pilot Knob and Ozark Cavefish NWRs. The plan also identifies wildlife-dependent recreational opportunities available to the public.

The preferred alternative for Mingo includes increased opportunities for hunting, fishing, wildlife observation and photography, environmental education and interpretation. It would continue with improvements to the drainage system, slightly increase the amount of bottomland forest, and maintain a variety of open habitats.

The preferred alternative for Pilot Knob includes increased community outreach to improve communication with local residents, guided public access to the summit of Pilot Knob, and increased law enforcement.

The preferred alternative for Ozark Cavefish includes opening the Refuge to compatible wildlife dependent public uses, working with surrounding land owners to improve water quality, and developing a formal agreement with the Missouri Department of Conservation for the cooperative management of this remote site and their adjacent property.

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: April 5, 2006.
Charles M. Wooley,
Acting Regional Director, U.S. Fish and Wildlife Service, Fort Snelling, Minnesota.

[FR Doc. E6-8119 Filed 5-25-06; 8:45 am]

BILLING CODE 4310-55-P